DEPARTMENT OF TRANSPORTATION

Office of the Secretary

Notice of Applications for Certificates of Public Convenience and Necessity and Foreign Air Carrier Permits Filed Under Subpart Q During the Week Ending December 15, 2000

The following Applications for Certificates of Public Convenience and Necessity and Foreign Air Carrier Permits were filed under subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-297.

Date Filed: December 11, 2000.

Due Date for Answers, Conforming Applications, or Motion to Modify Scope: January 2, 2001.

Description: Application of American Airlines, Inc. pursuant to 49 U.S.C. section 41101, 14 CFR Part 377 and subpart Q, applies for renewal of segment 4 of its 3 certificate for Route 389, authorizing scheduled foreign air transportation of persons, property, and mail between the coterminal points New York, New York/Newark, New Jersey and Miami, Florida and the coterminal points Rio de Janeiro and Sao Paulo, Brazil.

Docket Number: OST-2000-8515.

Date Filed: December 11, 2000.

Due Date for Answers, Conforming Applications, or Motion to Modify Scope: January 2, 2001.

Description: Application of American Airlines, Inc. pursuant to 49 U.S.C. section 41101, 14 CFR Part 377 and subpart Q, applies for renewal of its certificate for Route 583, authorizing scheduled foreign air transportation of persons, property, and mail between San Jose, California, and Tokyo, Japan, as well as renewal of its allocation of six associated weekly frequencies.

Docket Number: OST-2000-8516.

Date Filed: December 11, 2000.

Due Date for Answers, Conforming Applications, or Motion to Modify Scope: January 2, 2001.

Description: Application of American Airlines, Inc. pursuant to 49 U.S.C. section 41101, 14 CFR Part 377 and subpart Q, applies for renewal of segments 1, 2, and 3 of its certificate for Route 602, authorizing scheduled foreign air transportation of persons, property, and mail from points in the United States to London and other points in Europe, the Middle East, Africa, and Asia.

Docket Number: OST-2000-8536.

Date Filed: December 12, 2000.

Due Date for Answers, Conforming Applications, or Motion to Modify Scope: January 3, 2001.

Description: Application of Potomac Air, Inc. pursuant to 49 U.S.C. section 41102 and subpart B, applies for a certificate of public convenience and necessity authorizing it to engage in interstate scheduled air transportation of persons, property, and mail.

Dorothy Y. Beard,
Federal Register Liaison.

[FR Doc. 01-2459 Filed 1-26-01; 8:45 am]

BILLING CODE 4910-62-P